DEPARTMENT OF HOMELAND SECURITY

Federal Emergency Management Agency

[Docket ID FEMA-2012-0003: Internal Agency Docket No. FEMA-B-1272]

Proposed Flood Hazard Determinations

Correction

In notice document 2012-27366, appearing on pages 67016-67018 in the issue of Thursday, November 8, 2012, make the following corrections:

1. On page 67016, in the Table titled “Osage County, Oklahoma, and Incorporated Areas,” the entry for the “Maps Available for Inspection Online at:” Link is corrected to read as follows: http://riskmap6.com/Community.aspx?cid=229&sid=4

2. On page 67018, in the Table titled “Kay County, Oklahoma and Incorporated Areas,” the entry for the “Maps Available for Inspection Online at:” Link is corrected to read as follows: http://riskmap6.com/Community.aspx?cid=208&sid=4

3. On page 67018, in the Table titled “Travis County, Texas, and Incorporated Areas,” the entry for the “Maps Available for Inspection Online at:” Link is corrected to read as follows: http://riskmap6.com/Community.aspx?cid=476&sid=5

[FR Doc. C1-2012-27366 Filed 1-31-13; 8:45 am]

BILLING CODE 1505- 01-D